DEPARTMENT OF LABOR

Employment and Training Administration

Workforce Investment Act; Native American Employment and Training Council

AGENCY: Employment and Training Administration, Labor.

ACTION: Notice of Meeting.

SUMMARY: Pursuant to section 10 (a)(2) of the Federal Advisory Committee Act (FACA) (Public Law 92-463), as amended, and section 166 (h)(4) of the Workforce Investment Act (WIA) [29 U.S.C. 2911(h)(4)], notice is hereby given of the next meeting of the Native American Employment and Training Council (NAETC), as constituted under WIA.

Time and Date: The meeting will begin at 9 a.m. Eastern Standard Time (EST) on Tuesday, January 8, 2008, and continue until 4:45 p.m. that day. The meeting will reconvene at 9 a.m. EST on Wednesday, January 9, 2008, and adjourn at approximately 4:45 p.m. on that day. The period from 2:30 p.m. to 4:30 p.m. on January 9, 2008, will be reserved for participation and presentations by members of the public.

Place: All sessions will be held at the United States Department of Labor, 200 Constitution Avenue NW., Room N3437-A, B, and C, Washington, DC 20210.

Status: The meeting will be open to the public. Members of the public not present may submit a written statement on or before December 28, 2007, to be included in the record of the meeting. Statements are to be submitted to Mr. Craig Lewis, Designated Federal Official (DFO), U.S. Department of Labor, 200 Constitution Avenue, NW., Room S-4209, Washington, DC 20210. Members of the public not present may also participate in the public comment period by conference call. The number to call is (888) 790-3107 and the participant pass code is: 6858974. A conference monitor will facilitate calls to the meeting. Members of the public who will be in attendance should call Mr. Craig Lewis at (202) 693-3384 at least two business days before the meeting so a representative can be scheduled to clear entrance to the facility. Persons who need special accommodations should contact Mr. Craig Lewis at (202) 693-3384 at least two business days before the meeting.

Matters To Be Considered: The formal agenda will focus on the following topics: (1) U.S. Department of Labor Update; (2) The Employment and Training Administration's Workforce Innovation in Regional Economic Development Initiative; (3) Indian and Native American Program Update; (4) Program Year 2006 Performance; (5) Fiscal Year 09 Funding; (6) Solicitation for Grant Application Update; (7) Technical Assistance Process; (8) Two Year Planning Guidance; (9) Workgroup Reports; and (10) Council Recommendations.

FOR FURTHER INFORMATION CONTACT: Mr. Craig Lewis, DFO, Indian and Native American Programs, Employment and Training Administration, U.S. Department of Labor, Room S-4206, 200 Constitution Avenue, NW., Washington, DC 20210.

Telephone: (202) 693-3384 (VOICE) (this is not a toll-free number).

Signed at Washington, DC, this 12th day of December, 2007.
Emily Stover DeRocco,
Assistant Secretary, Employment and Training Administration.

[FR Doc. E7-24487 Filed 12-17-07; 8:45 am]

BILLING CODE 4510-FN-P